DEPARTMENT OF ENERGY

Federal Energy Regulatory Commission

Notice of Petition for Enforcement and Declaratory Order

In the matter of: Hydrodynamics Inc., Montana Marginal Energy, Inc., WINData, LLC, Hydrodynamics Inc., Montana Marginal Energy, Inc., Two Dot Wind Energy, LLC, Mo Wind, LLC, Greenfield Wind LLC, Fairfield Wind LLC, Greenfield Wind II, LLC, Coyote Wind LLC, EL13-73-000, QF85-212-001, QF08-556-001, QF08-557-001, QF08-558-001, QF08-559-001, QF08-598-001, QF03-36-001, QF03-127-001, QF04-87-001, QF04-157-001, QF10-668-001, QF05-140-001, QF11-449-002, QF11-450-003, QF13-425-001, QF13-421-001.

Take notice that on June 17, 2013, pursuant to section 210(h)(2) of the Public Utility Regulatory Policies Act of 1978 (PURPA), 16 USC 824a-3(h) (2011) and Rule 207 of the Rules of Practice and Procedure of the Federal Energy Regulatory Commission (Commission), 18 CFR 385.207 (2012), Hydrodynamics, Inc., Montana Marginal Energy, Inc., and WINData, LLC (collectively Petitioners) filed a petition for enforcement and a petition for declaratory order, requesting the Commission take enforcement action under section 210(h) of PURPA, or in the alternative, issue a declaratory order finding that the Montana Public Service Commission's (MPSC) rule A.R.M. 38.5.1902(5)(MPSC Rule), and MPSC decisions interpreting the MPSC Rule, fail to implement PURPA and the Commission's regulations insofar as the MPSC Rule eliminates the rights of qualifying facilities (QFs) to create a legally enforceable obligation and to choose how to sell their energy and capacity.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on July 8, 2013.

Dated: June 18, 2013.
Kimberly D. Bose,
Secretary.

[FR Doc. 2013-15070 Filed 6-24-13; 8:45 am]

BILLING CODE 6717-01-P